DEPARTMENT OF COMMERCE

National Oceanic and Atmospheric Administration

50 CFR Part 679

[Docket No. 021213310-3170-02; I.D. 101702B]

RIN 0648-AP92

Individual Fishing Quota (IFQ) Program for Pacific Halibut and Sablefish; Amendment 72/64 To Revise Recordkeeping and Reporting Requirements

AGENCY: National Marine Fisheries Service (NMFS), National Oceanic and Atmospheric Administration (NOAA), Commerce.

ACTION: Final rule.

SUMMARY: NMFS issues a final rule to implement Amendment 72 to the Fishery Management Plan for the Groundfish Fishery of the Bering Sea and Aleutian Islands Area (Amendment 72) and Amendment 64 to the Fishery Management Plan for Groundfish of the Gulf of Alaska (Amendment 64) (collectively, Amendments 72/64). This action will revise certain recordkeeping and reporting requirements for the Individual Fishing Quota (IFQ) Program for fixed gear Pacific halibut and sablefish fisheries and the Western Alaska Community Development Quota (CDQ) Program for the Pacific halibut fishery. This action is necessary to improve IFQ fishing operations, while complying with IFQ Program requirements; to improve NMFS' ability to efficiently administer the program; and to improve the clarity and consistency of IFQ Program regulations. This action is intended to meet the conservation and management requirements of the Northern Pacific Halibut Act of 1982 (Halibut Act) with respect to halibut and of the Magnuson-Stevens Fishery Conservation and Management Act (Magnuson-Stevens Act) with respect to sablefish and to further the goals and objectives of the groundfish Fishery Management Plans (FMPs).

DATES: This regulation becomes effective on August 28, 2003.

ADDRESSES: Copies of the Regulatory Impact Review/Final Regulatory Flexibility Analysis (RIR/FRFA) prepared for Amendment 72/64 may be obtained from Lori Durall, NMFS, Alaska Region, P.O. Box 21668, Juneau, AK 99802, 907-586-7247. Send comments on collection-of-information requirements to the same address and to the Office of Information and Regulatory Affairs, Office of Management and Budget (OMB), Washington, DC 20503 (Attention: NOAA Desk Officer). Comments may also be sent via facsimile (fax) to 907-586-7465. Comments will not be accepted if submitted via e-mail or the Internet.

FOR FURTHER INFORMATION CONTACT: Patsy A. Bearden, 907-586-7228 or patsy.bearden@noaa.gov.

SUPPLEMENTARY INFORMATION: NMFS manages the groundfish fisheries in the Exclusive Economic Zone (EEZ) off Alaska according to fishery management plans (FMPs) prepared by the North Pacific Fishery Management Council (Council) under the authority of the Magnuson-Stevens Act. The FMPs are implemented by regulations at 50 CFR part 679. General regulations that also pertain to these fisheries appear in subpart H to 50 CFR part 600.

The commercial halibut fishery in and off Alaska is managed under the Individual Fishing Quota (IFQ) program and the Western Alaska Community Development Quota (CDQ) program codified at 50 CFR part 679. The IFQ Program, a limited access management system for the fixed gear Pacific halibut (Hippoglossus stenolepis) and sablefish (Anoplopoma fimbria) fisheries in and off Alaska, was approved by NMFS in January 1993 and fully implemented beginning in March 1995. The IFQ Program for the sablefish fishery is implemented by the FMPs and Federal regulations under 50 CFR part 679 under authority of the Magnuson-Stevens Act. The IFQ Program for the halibut fishery and the CDQ program for halibut are implemented by Federal regulations promulgated under the authority of the Halibut Act.

Purpose and Need for Amendment 72/64

This action amends the regulatory text for some of the Recordkeeping and Reporting (R&R) requirements for the groundfish fishery, the IFQ program for halibut and sablefish, and the CDQ program for halibut. Revisions are made to the regulatory text to accommodate the procedural changes.

IFQ Vessel Clearance

Currently, regulations require that vessels with IFQ halibut or sablefish catch leaving the jurisdiction of the Council check in with NOAA Fisheries Office for Law Enforcement (OLE) at a certified “primary” port and have the vessel's hold sealed prior to departure. OLE personnel are not currently able to effectively determine catch quantity at the primary port and are unable to seal a vessel's hold without compromising vessel safety. The requirement for a Vessel Clearance is removed with this action.

IFQ Shipment Report and Product Transfer Report (PTR)

The function of the shipment report and the PTR is to document the movement of fish product. The PTR was designed for completion by a processor manager or operator to report to NMFS the movement of groundfish. The shipment report was designed for completion by a Registered Buyer to report to NMFS the movement of IFQ halibut, CDQ halibut and IFQ sablefish. In many cases, the manager or operator of a processor is also a Registered Buyer. The regulations require that both forms be completed, regardless of any duplication of effort. This action consolidates the shipment report into the PTR. The result is that the operator or manager that is also a Registered Buyer can document all fish in a shipment on one form. The revised PTR also works for the participant that is only an operator, manager or a Registered Buyer. The result for NMFS is one standard form. This action eliminates the shipment report and allows the collection of necessary information with fewer paperwork requirements.

IFQ Prior Notice of Landing (PNOL)

In the IFQ program, fishers are required to notify OLE before IFQ species are offloaded. This requirement provides OLE agents and officers the time necessary to travel to unmanned ports throughout Alaska to monitor specific IFQ offloads and to gather specifics about a vessel's catch prior to landing. In addition, the PNOL helps International Pacific Halibut Commission (IPHC) port samplers meet and interview the skipper during the offload and allows port samplers to optimally sample the landings and collect logbook information.

The PNOL is made by toll-free telephone to OLE a minimum of six hours before landing fish. As part of the PNOL, fishers must name the Registered Buyer to whom they plan to deliver their fish.

This rule changes the time limit for the PNOL from 6 hours to 3 hours before landing. This action relieves restrictions on vessel operators by providing them additional time to seek markets prior to reporting the time and location of a landing. This rule also changes the requirement from naming a specific Registered Buyer to naming the place of landing. Requiring vessel operators to report a “location of landing” rather than a “Registered Buyer” provides shoreside data-collection and OLE personnel with the location of the landing while not requiring a vessel to deliver to a specific processor. This provides vessels additional flexibility to market their product.

IFQ Departure Report

The departure report was created as a prerequisite notice to a vessel clearance. If a vessel operator intended to obtain a vessel clearance at Bellingham, Washington, he or she would first submit an IFQ departure report to an OLE clearing officer by toll-free telephone. The IFQ departure report was submitted only after completion of all IFQ fishing and prior to departing the waters of the EEZ adjacent to the jurisdictional waters of the State of Alaska, the territorial sea of the State of Alaska, or the internal waters of the State of Alaska. This action removes the vessel clearance, and thus changes the function of the departure report. Instead of being a prerequisite to a vessel clearance, the departure report now will be the complete report submitted to OLE by a vessel leaving the jurisdiction of the Council.

U.S. Vessel Activity Report (VAR)

A fisher is required to submit a VAR if his or her vessel is carrying fish or fish product onboard before the vessel crosses out of the jurisdiction of the Council. Some changes are made to the regulatory text for this form to incorporate “CDQ halibut” and to compensate for the removal of the vessel clearance.

Response to Comments

A Notice of Availability of Amendment 72/64 was published in the Federal Register on October 29, 2002 (67 FR 65941), inviting comments on the FMP amendment through December 27, 2002. NMFS received no comments. On January 24, 2003, the Secretary of Commerce approved Amendment 72/64 in its entirety.

NMFS published a proposed rule in the Federal Register on January 24, 2003 (68 FR 3485), which described the proposed regulatory amendment and invited comments from the public. No public comments were received on the proposed rule.

Changes from the Proposed Rule

Some technical, non-substantive changes are made in the final rule that were not presented in the proposed rule. These changes are the result of further review, intended to improve the rule for final publication. Fishery participants have requested guidance from NMFS on where to find separate R&R procedures for groundfish, IFQ and CDQ programs, as these programs become more integrated and thus more complicated. Overviews are provided of the three programs to assist the reader to find detailed information on specific programs. Clarification is provided on where to find information that already exists in different parts of the regulations.

The changes from the proposed rule are organized in three categories. Each of the three categories affects many paragraphs. The affected paragraphs are arranged below in order of appearance in the 50 CFR part 679 regulatory text.

CDQ Halibut

The IFQ and CDQ permits and cards are issued separately, under the IFQ Program and the CDQ Program. However, the IFQ halibut, CDQ halibut, and IFQ sablefish fisheries are managed and monitored by the IFQ Program. The Registered Buyer permit authorizes receipt of CDQ halibut in the same manner as receipt of IFQ halibut or IFQ sablefish. Some of the revisions clarify the administrative procedures that currently exist for halibut accounting in the IFQ Program and in the CDQ Program but which do not appear in regulatory text. Wherever CDQ halibut formerly was “understood” to be included in the phrase IFQ halibut, the regulatory text is revised to specifically state “CDQ halibut.” In addition, a distinction is made between “halibut CDQ,” which is a type of fish allocation and “CDQ halibut,” which is a type of fish. CDQ halibut is treated the same administratively as IFQ halibut, and has been since the beginning of the CDQ halibut program. The following table 1 shows how CDQ halibut changes are incorporated into the regulatory text.

Table 1.—Changes to Regulatory Text Due to the Addition of “CDQ Halibut”
Paragraph | From | To
Revise § 679.2, definition for “dockside sale” | Transfer of IFQ transfer of IFQ sablefish | Transfer of IFQ halibut, CDQ halibut or IFQ sablefish.
Revise § 679.2, definition of “Transfer” | (1) Groundfish fisheries of the GOA and BSAI * * * of any groundfish product * * * | (1) Groundfish fisheries of the GOA and BSAI * * * of any IFQ groundfish product * * *
| (2) IFQ halibut, CDQ halibut, IFQ sablefish. Any loading, offloading, shipment or receipt of any IFQ halibut, CDQ halibut, or IFQ sablefish product, | (2) IFQ halibut and CDQ halibut fisheries. Any loading, offloading, or shipment of any IFQ halibut or CDQ halibut product,
In the proposed rule, the wording of this definition was changed to read “Any loading, offloading, shipment or receipt of any IFQ halibut, CDQ halibut, or IFQ sablefish product * * *” This is incorrect because receipt of IFQ halibut or CDQ halibut is not considered a transfer, so the text is corrected in this rule to read “Any loading, offloading, or shipment of any IFQ halibut or CDQ halibut product * * *” The two subparagraphs of the definition of “transfer” are changed such that paragraph (1) refers to IFQ sablefish and any other groundfish, while paragraph (2) refers to IFQ halibut and CDQ halibut.
Revise § 679.4(d)(3)(i) | To receive and make an IFQ landing by an IFQ permit or card holder | To receive and make an IFQ landing by an IFQ permit or card holder or to receive and make a CDQ halibut landing by a CDQ permit or cardholder.
Revise § 679.4(d)(3)(ii)(B) | Any person who harvests IFQ halibut or IFQ sablefish and transfers such fish | Any person who harvests IFQ halibut, CDQ halibut or IFQ sablefish and transfers such fish.
Revise § 679.4(d)(6)(ii) | Location of an IFQ landing and must be made available by the Registered Buyer's representative for inspection on request of any authorized officer | Location of an IFQ landing or CDQ halibut landing and must be made available by an individual representing the Registered Buyer for inspection on request of any authorized officer.
Add new § 679.4(e) | Add new heading “CDQ halibut permits and CDQ cards.”
Add new § 679.4(e)(1) | Add new heading “Requirements.”
Add new § 679.4(e)(1)(i) | The CDQ group, the operator of the vessel, the manager of a shoreside processor or stationary floating processor, and the Registered Buyer must comply with the requirements of this paragraph (e) and of § 679.32(f) for the catch of CDQ halibut.
Redesignate § 679.32(f)(2)(v) as § 679.4(e)(1)(ii) and revise | The CDQ group, vessel owner or operator, and registered buyer must comply with all of the IFQ prohibitions at § 679.7(f) | The CDQ group, vessel owner or operator, and Registered Buyer are subject to all of the IFQ prohibitions at § 679.7(f).
Redesignate § 679.32(f)(2)(i) through (iii) as § 679.4(e)(2) through (4), respectively. |  |
Redesignate § 679.32(f)(2)(iv) as § 679.4(e)(5) and revise | Landings. A person may land CDQ halibut only if he or she has a valid halibut CDQ card and that person may deliver halibut CDQ only to a person with a valid registered buyer permit. The person holding the halibut CDQ card and the Registered Buyer must comply with the requirements of § 679.5(l)(1) and (l)(2) | Landings. A person may land CDQ halibut only if he or she has a valid halibut CDQ card. The person(s) holding the halibut CDQ card and the Registered Buyer must comply with the requirements of § 679.5(g) and (l)(1) through (6).
Redesignate § 679.5(a)(1)(i) as paragraph (a)(1)(i)(A), and revise | Who must comply with recordkeeping and reporting requirements? Except as provided in paragraphs (a)(1)(iii) and (iv) of this section, the owner, operator, or manager of the following participants must comply with the recordkeeping and reporting requirements of this section | Groundfish. Except as provided in paragraph (a)(1)(iii) of this section, the owner, operator, or manager of the following participants must comply with the appropriate groundfish R&R requirements provided at § 679.5(a) through (k), (m), (o), and (p); § 679.28(b), (f), and (g).
Add new § 679.5(a)(1)(i) | Who must comply with R&R requirements?Participants in the groundfish fisheries, the IFQ fisheries, and the CDQ fisheries must comply with the appropriate R&R requirements of paragraphs (1)(i)(A) through (C) of this section. Sablefish are managed under both the IFQ Program and the Groundfish Program. As such, sablefish must be recorded and reported as groundfish and also as IFQ sablefish.
Redesignate § 679.5(a)(1)(i)(A) through (E) as (a)(1)(i)(A)(1) through (5), respectively. |  |
add new § 679.5(a)(1)(i)(B) | IFQ halibut and sablefish. The IFQ permit holder, IFQ cardholder, or Registered Buyer must comply with the R&R requirements provided at § 679.5(g), (k), and (l).
add new § 679.5(a)(1)(i)(C) | CDQ halibut. The CDQ permit holder, CDQ cardholder, or Registered Buyer must comply with the R&R requirements provided at § 679.5(g), (k), (l)(1) through (6), (n)(1), and (n)(2).
Revise § 679.5(a)(15) | IFQ/groundfish transfer comparison. The operator, manager, or Registered Buyer may refer to the following table for submittal, issuance, and possession requirements for each type of IFQ or non-IFQ groundfish transfer activity. The locations of the paragraphs that describe the requirements of each activity are also given | Transfer comparison. The operator, manager, or Registered Buyer must refer to the following table for submittal, issuance, and possession requirements for each type of transfer activity of non-IFQ groundfish, IFQ halibut, IFQ sablefish, and CDQ halibut.
Revise (a)(15) intext table | Column headings within intext table at (a)(15) are revised by removing “IFQ.”
Revise § 679.5(a)(15)(i) | Non-IFQ groundfish and no IFQ product onboard (see § 679.5(k)) | Non-IFQ groundfish and no IFQ product or CDQ halibut product onboard (see § 679.5(k)).
Revise § 679.5(a)(15)(ii) | If a vessel leaving Alaska with IFQ sablefish or IFQ halibut, but no other non-IFQ groundfish onboard (see § 679.5(l)(4)) | If a vessel leaving Alaska with IFQ sablefish, IFQ halibut, or CDQ halibut but no other non-IFQ groundfish onboard (see § 679.5(l)(4)).
Revise § 679.5(a)(15)(iii) | If a vessel leaving Alaska with IFQ sablefish or IFQ halibut and other non-IFQ groundfish onboard (see §§ 679.5(k) and 679.5(l)(4)) | If a vessel leaving Alaska with IFQ sablefish, IFQ halibut, or CDQ halibut and other non-IFQ groundfish onboard (see §§ 679.5(k) and 679.5(l)(4)).
Revise § 679.5(a)(15)(v) | Transfer of IFQ species from a Registered Buyer (see § 679.5(g)) | Transfer of IFQ species or CDQ halibut from a Registered Buyer (see § 679.5(g)).
Revise § 679.5(a)(15)(vi) | Transfer of IFQ species from IFQ Cardholder with an IFQ Registered Buyer permit in a dockside sale (see § 679.5(l)(5)) | Transfer of IFQ species from IFQ Cardholder or CDQ halibut from CDQ halibut with a Registered Buyer permit in a dockside sale (see § 679.5(l)(5)).
Revise § 679.5(a)(15)(vii) | Transfer of IFQ Transfer species from landing site to IFQ Registered Buyer's processing facility (see § 679.5(g)(l)(vi)) | Transfer of IFQ species or CDQ halibut from landing site to Registered Buyer's processing facility (see § 679.5(g)(1)(vi)).
Revise § 679.5(a)(15)(viii) | Transfer of IFQ processed product between vessels (see § 679.5(l)(3)) | Transshipment of IFQ processed product or CDQ halibut processed product between vessels (see § 679.5(l)(3)).
Revise footnote to intext table of § 679.5(a)(15) | “XX” indicates that the document must accompany the transfer of IFQ species from landing site to processor | “XX” indicates that the document must accompany the transfer of IFQ transfer of CDQ halibut from landing site to processor.
Revise footnote to intext table of § 679.5(a)(15) | “XXXX” indicates authorization must be obtained | “XXXX” indicates authorization must be obtained 24 hours in advance.
Revise § 679.5(g)(1)(v)(A) | A person holding a valid IFQ permit, IFQ card, and IFQ Registered Buyer permit may conduct a dockside sale of IFQ halibut or IFQ sablefish to a person who has not been issued a IFQ Registered Buyer | A person holding a valid IFQ permit, IFQ card, and Registered Buyer permit may conduct a dockside sale of IFQ halibut or IFQ sablefish with a person who has not been issued a Registered Buyer permit after all IFQ fish have been landed and reported per § 679.5(l).
Redesignate § 679.5(g)(1)(v)(B) as (C) and revise | An IFQ Registered Buyer conducting dockside sales must issue a receipt to each individual receiving IFQ halibut or IFQ sablefish in lieu of a PTR. This receipt must include the date of sale or transfer, the IFQ Registered Buyer permit number, and the weight by product of the IFQ sablefish or IFQ halibut transferred | A Registered Buyer conducting dockside sales must issue a receipt to each individual receiving IFQ halibut, CDQ halibut, or IFQ sablefish in lieu of a PTR. This receipt must include the date of sale or transfer, the Registered Buyer permit number, and the weight by product of the IFQ halibut, CDQ halibut or IFQ sablefish transferred. A copy of each dockside sales receipt must be maintained by the Registered Buyer as described in § 679.5(l).
Add new § 679.5(g)(1)(v)(B) | A person holding a valid halibut CDQ permit, halibut CDQ card, and Registered Buyer permit may conduct a dockside sale of CDQ halibut with a person who has not been issued a Registered Buyer permit after all CDQ halibut have been landed and reported per § 679.5(l).
Revise § 679.5(g)(1)(vi) | Exemption: transfer directly from the landing site to a processing facility (IFQ only). A PTR is not required for transportation of unprocessed IFQ species directly from the landing site to a processing facility for processing the IFQ species, provided the following conditions are met: | Exemption: transfer directly from the landing site to a processing facility (CDQ halibut or IFQ only). A PTR is not required for transportation of unprocessed IFQ halibut, IFQ sablefish, and CDQ halibut directly from the landing site to a facility for processing, provided the following conditions are met:
Revise § 679.5(g)(1)(vi)(A) | Accompanies the offloaded IFQ species while in transit | Accompanies the offloaded IFQ halibut, IFQ sablefish, and CDQ halibut while in transit.
Revise § 679.5(g)(1)(vi)(C) | For IFQ species transported in this manner, the IFQ Registered Buyer submitting the IFQ Landing Report must still complete a PTR for each transfer of IFQ halibut and IFQ sablefish from the processing facility | For IFQ halibut, IFQ sablefish, and CDQ halibut transported in this manner, the Registered Buyer submitting the IFQ Landing Report must still complete a PTR for each transfer of IFQ halibut, CDQ halibut and IFQ sablefish from the processing facility.
Remove § 679.5(g)(3)(iii) | This paragraph referred to boxes on the PTR that the participant was to mark indicating whether the fish onboard was groundfish, IFQ species, or CDQ halibut. This proved to be unrealistic because, by the time the fish is documented on a PTR, it has lost that detail
Revise § 679.5(l)(1)(i), (ii), (iii)(E), (iii)(F) and (iii)(G) | IFQ halibut or IFQ sablefish | IFQ halibut, CDQ halibut, or IFQ sablefish.
Revise § 679.5(l)(2)(i)(A) | All IFQ catch debited. All IFQ halibut, CDQ halibut, and IFQ sablefish catch must be weighed and debited from the IFQ permit holder's account under which the catch was harvested | All IFQ halibut, CDQ halibut and IFQ sablefish catch debited. Except as provided in § 679.40(g), all IFQ halibut, CDQ halibut, and IFQ sablefish catch must be weighed and debited from the IFQ permit holder's account under which the catch was harvested.
| Section 679.40(g) modifies § 679.5(l)(2)(i)(A) by saying that tagged halibut and sablefish are not debited against an individual's halibut or sablefish IFQ.
Revise § 679.5(l)(2)(iv)(D) | Cardholder's account was properly debited | Cardholder's account was properly debited. A copy of each receipt must be maintained by the Registered Buyer as described in § 679.5(l).
Revise § 679.5(l)(4)(ii)(D) | Halibut IFQ Permit numbers and sasblefish IFQ Permit numbers of IFQ cardholders on board | Halibut IFQ, Halibut CDQ, and Sablefish IFQ Permit numbers of IFQ and CDQ cardholders on board.
Revise § 679.32(f)(1) | Must comply with the requirements of this paragraph (f) for the catch of CDQ halibut or while halibut CDQ fishing | Must comply with the catch monitoring requirements of this paragraph (f) and with the R&R requirements of § 679.4(e) for the catch of CDQ halibut or while CDQ halibut fishing.
Remove § 679.32(f)(2).
Redesignate § 679.32(f)(3) through (5) as § 679.32(f)(2) through (4), respectively.

/

Registered Buyer

These revisions correct the term “IFQ Registered Buyer” to read “Registered Buyer.” The term “IFQ” is removed from “IFQ Registered Buyer” everywhere it occurs in the regulatory text. With the inclusion of CDQ halibut regulatory text, it is necessary to make the term “Registered Buyer” more general. The Registered Buyer permit authorizes receipt of CDQ halibut in the same manner as IFQ halibut. This change is necessary to include “CDQ halibut” in the regulatory text that describes the functions of a Registered Buyer. Where only this change occurs in a paragraph, it is listed in Table 2, below. If a paragraph has more corrections than the “Registered Buyer” correction, that paragraph is included in either Tables 1 or 3.

Table 2.—Changes to Regulatory Text Where “IFQ” Is Removed From “IFQ Registered Buyer”
Paragraph | From | To
Revise § 679.2, heading for definition of “IFQ Registered Buyer” | IFQ registered buyer | Registered buyer.
Revise heading of § 679.4(d) | IFQ Registered Buyer permits | Registered Buyer permits.
Revise § 679.5(g)(1) | IFQ Registered Buyers | a Registered Buyer.
Revise § 679.5(g)(1)(ii) | or IFQ Registered Buyer | or Registered Buyer.
Revise § 679.5(g)(1)(iv) | Exemption: IFQ Registered Buyers: IFQ Registered Buyers are not required to submit a PTR for “receipt” of IFQ halibut, CDQ halibut, or IFQ sablefish | Exemption: Registered Buyers: Registered Buyers are not required to submit a PTR for “receipt” of IFQ halibut, CDQ halibut, or IFQ sablefish.
Revise § 679.5(g)(2) | an IFQ Registered Buyer | a Registered Buyer.
Revise § 679.5(g)(3) | IFQ Registered Buyer | Registered Buyer.
Revise § 679.5(g)(6) | or IFQ Registered Buyer | or Registered Buyer.

Revisions and Adjustments

These revisions shown in Table 3, below, include cross reference corrections, cross reference additions, improvements in text clarity, addition of an effective date of two paragraphs, removal of obsolete text, replacing “recordkeeping and reporting” with “R&R” for clarity and brevity, and correction of a typographic error.

Table 3.—Changes to Regulatory Text Resulting From Cross Reference Corrections and Additions, Clarifications, and Other Revisions and Adjustments
Paragraph | From | To
Revise § 679.2, definition for “IFQ permit holder” | as defined at § 679.4(d)(1) | (see § 679.4(d)(1)).
Revise § 679.4(a)(1)(i)(A) | § 679.4(d)(2) | § 679.4(d)(3)(ii).
Revise § 679.4(a)(1)(i)(A) | Specified fishing year | Until next renewal cycle.
§ 679.4(a)(1)(ii)(A) and (B) | § 679.32(f) | § 679.4(e).
Revise § 679.4(d)(1)(i) | or until it is revoked | or until the permit is revoked.
Revise § 679.4(d)(2)(iii) | an IFQ permit number, the name of the individual | an IFQ permit number and the name of the individual.
Revise § 679.4(d)(6)(i) | IFQ permit and card. The IFQ cardholder must present a copy of the IFQ permit and the original IFQ card for inspection on request of any authorized officer or Registered Buyer receiving IFQ species. Nothing in this paragraph would prevent an individual who is issued an IFQ card from being absent from the vessel used to harvest IFQ halibut or IFQ sablefish from the time the vessel arrives at the point of landing and the commencement of landing” | IFQ permit and card. The IFQ cardholder must present a copy of the IFQ permit and the original IFQ card for inspection on request of any authorized officer or Registered Buyer receiving IFQ species.
| Removal of sentence that duplicates regulatory text found at the last sentence of § 679.4(d)(2)(ii)
Remove introductory § 679.5(a)(1)(ii).
Revise § 679.5(a)(1)(ii)(A) | Groundfish received. A shoreside processor, stationary floating processor, mothership, or buying station subject to recordkeeping and reporting requirements must report | Groundfish and prohibited species received. A shoreside processor, stationary floating processor, mothership, or buying station subject to R&R requirements must record and report.
Redesignate § 679.5(a)(1)(ii)(B) as (a)(1)(ii)(C) and revise | Groundfish transferred. A shoreside processor, stationary floating processor, or mothership subject to recordkeeping and reporting requirements must report | Groundfish and prohibited species transferred. A shoreside processor, stationary floating processor, or mothership subject to R&R requirements must record and report.
Add new § 679.5(a)(1)(ii)(B) | Groundfish and prohibited species reported by catcher vessels and buying stations. A shoreside processor, stationary floating processor, or mothership subject to R&R requirements must record and report all discards or disposition information of groundfish and prohibited species reported to them by catcher vessels or buying stations.
Redesignate § 679.5(g)(5)(i) as (g)(5) and revise | or IFQ Registered Buyer must enter your representative's name, telephone number, and FAX number, check “Shipper” and: | or Registered Buyer must enter the name of the individual representing the Registered Buyer, telephone number, and FAX number, check “Shipper” and:
Redesignate § 679.5(g)(5)(ii) as (g)(5)(iv).
Revise newly redesignated § 679.5(g)(5)(iv)(I) | n/a/ | n/a
Redesignate § 679.5(g)(5)(i)(A) through (C) as (g)(5)(i) through (iii), respectively.
Revise newly redesignated § 679.5(g)(5)(ii) | IFQ Registered Buyer name and permit number | Your Registered Buyer name and permit number.
Revise newly redesignated § 679.5(g)(5)(iii) | your IFQ Registered Buyer's name and permit number | Your Registered Buyer's name and permit number.
Revise § 679.5(l)(2)(ii)(D) | Once the landing operations have commenced | Once the landing has commenced.

Classification

The Administrator, Alaska Region, NMFS, determined that Amendments 72/64 are necessary for the conservation and management of the IFQ Pacific halibut and sablefish fisheries and that they are consistent with the Magnuson-Stevens Act, the Halibut Act, and other applicable laws.

This final rule has been determined to be not significant for purposes of Executive Order 12866.

NMFS prepared an RIR/Initial Regulatory Flexibility Analysis (IRFA) for the proposed amendments that describes the management background, the purpose and need for action, the management alternatives, and the socioeconomic impacts of the alternatives. The public comment period ended on February 24, 2003. No comments on the economic impacts of the proposed rule were received.

NMFS is aware of no existing relevant Federal rules which duplicate, overlap, or conflict with this final rule.

NMFS prepared a Final Regulatory Flexibility Analysis (FRFA) pursuant to Section 604(a) of the Regulatory Flexibility Act, which describes the impact this final rule may have on small entities. The FRFA incorporates the IRFA and its findings. A copy of the FRFA is available from NMFS (see ADDRESSES). A summary of the FRFA follows.

The actions included in this regulatory amendment would potentially affect all individuals, corporations or partnerships, or other collective entities holding QS. This action could also affect all six of the CDQ groups that hold halibut CDQ. At the end of the 2001 IFQ season, 3,485 persons (individuals, corporations, and other entities) held halibut QS; 872 persons held sablefish QS. In addition, all six of the CDQ groups have halibut CDQ allocations. A total of 270 individuals landed CDQ halibut in 2001 and may be affected by this regulation. NMFS/RAM issued 694 permits for Registered Buyers in 2001; of these, 215 reported landings.

An examination of limits on quota share holdings indicates that all of the halibut and sablefish fishing operations are small entities. CDQ operations are small entities because they are non-profits. In the absence of data on employment and affiliation, the registered buyers have been assumed to be small entities.

This regulation does not impose new recordkeeping or reporting requirements on the regulated small entities.

Three alternatives were considered to the action modifying PNOL requirements on fishermen. The status quo, maintaining the PNOL and six hour reporting requirements, was rejected because it did not address the concerns raised by industry with the existing rule. Complete elimination of the PNOL requirement was rejected because, although it would have reduced the burden on small entities, it would adversely affect data-collection, monitoring, and enforcement operations. A third alternative would have reduced the burden on fishermen by randomly applying the PNOL requirements to a sample of vessels. This alternative was rejected because it may have required a new “hail out” report from fishermen as they left port, and communication with fishermen at sea to let them know they had been randomly selected. IPHC port sampling may be adversely affected by this alternative. NOAA enforcement efforts would be complicated.

The NPFMC and NMFS considered one alternative to the status quo “offload window” between 6 a.m. and 6 p.m. This would have extended the offload window requirements so that fishermen would have had to begin offloading between 6 a.m. and 12 a.m. This alternative would have reduced the burden on small fishing entities compared to the status quo. However, this alternative could adversely affect current port sampling techniques used by the IPHC and increase their overall staffing costs, and potentially increase the labor costs for Registered Buyers. Industry indicated to the Council during the development of this action that extending the offload window would not be necessary if the PNOL were modified.

The status quo was considered as an alternative to the action to relax the requirement that IFQ vessels check in at a NMFS certified port prior to leaving the jurisdiction of the Council, but it was rejected. The status quo would not have addressed industry concerns about the vessel clearance requirements. The preferred alternative will not compromise enforcement activity. Because enforcement personnel are not currently able to effectively determine catch quantity at the vessel clearance port and are unable to seal a vessel's hold without compromising vessel safety, no effective difference occurs between a verbal “departure report” and the verbal vessel clearance report given in a certified port.

The status quo was considered as an alternative to the consolidation of the PTR and the shipment reports, but was rejected. That alternative would not have addressed industry concerns about duplication in reporting requirements. The preferred alternative collects necessary information with fewer paperwork requirements.

This rule contains collection-of-information requirements subject to the Paperwork Reduction Act (PRA) and which have been approved by OMB. These requirements are listed by OMB control number.

OMB No. 0648-0213: 20 minutes for a product transfer report, and 14 minutes for a vessel activity report.

OMB No. 0648-0272: 12 minutes for a prior notice of landing, 18 minutes for an IFQ/CDQ landing report, 6 minutes for IFQ dockside sales receipts, 15 minutes for an IFQ departure report, and 12 minutes for an IFQ transshipment authorization, 30 minutes for Registered Buyer's permit application, 30 minutes for CDQ halibut or IFQ landing card.

Response times include the time for reviewing instructions, searching existing data sources, gathering and maintaining the data needed, and completing and reviewing the collection of information.

Notwithstanding any other provision of the law, no person is required to respond to, nor shall any person be subject to a penalty for failure to comply with, a collection of information subject to the requirements of the PRA, unless that collection of information displays a currently valid OMB Control Number. Send comments regarding these burden estimates, or any other aspect of these data collections, including suggestions for reducing the burden, to NMFS (see ADDRESSES) and to OMB at the Office of Information and Regulatory Affairs, Office of Management and Budget, Washington, DC 20503 (Attention: NOAA Desk Officer).

In conclusion, these actions will improve the efficiency of data collection required under existing IFQ regulations and will implement recommendations received from industry, enforcement and management. Based on the foregoing conclusions, these revisions to R&R for the IFQ fisheries and CDQ halibut fishery will not substantively alter environmental impacts already analyzed within existing environmental documents.

The legislative authorities for these actions are the Magnuson-Stevens Fishery Conservation and Management Act, Pub. L. 94-265, 16 U.S.C. 1801 (Magnuson-Stevens Act), and the Northern Pacific Halibut Act of 1982 (NPHA) Pub. L. 97-176, 16 U.S.C. 773c (c).

List of Subjects in 50 CFR Part 679

Alaska, Fisheries, Reporting and recordkeeping requirements.

Dated: July 21, 2003.
John Oliver,
Deputy Assistant Administrator for Operations, National Marine Fisheries Service.

For the reasons set forth in the preamble, 50 CFR part 679 is amended as follows:

PART 679—FISHERIES OF THE EXCLUSIVE ECONOMIC ZONE OFF ALASKA

1. The authority citation for 50 CFR part 679 continues to read as follows:

Authority: 16 U.S.C. 773 et seq., 1801 et seq., and 3631 et seq.

2. In § 679.2, the definition for “IFQ Registered Buyer” is removed; the definition for “Registered Buyer” is added; the definitions for “Authorized officer,” “Clearing officer,” “Dockside sale,” “IFQ landing,” “IFQ permit holder,” and “Transfer” are revised to read in alphabetical order as follows:

§ 679.2 Definitions.

Authorized officer means:

(1) Any commissioned, warrant, or petty officer of the USCG;

(2) Any special agent or fishery enforcement officer of NMFS;

(3) Any officer designated by the head of any Federal or state agency that has entered into an agreement with the Secretary and the Commandant of the USCG to enforce the provisions of the Magnuson-Stevens Act or any other statute administered by NOAA; or

(4) Any USCG personnel accompanying and acting under the direction of any person described in paragraph (1) of this definition.

* * * * *

Clearing officer means, a NOAA Fisheries Office for Law Enforcement (OLE) special agent, an OLE fishery enforcement officer, or an OLE enforcement aide.

* * * * *

Dockside sale means, the transfer of IFQ halibut, CDQ halibut or IFQ sablefish from the person who harvested it to individuals for personal consumption, and not for resale.

* * * * *

IFQ landing means the unloading or transferring of any IFQ halibut, CDQ halibut, IFQ sablefish, or products thereof from the vessel that harvested such fish or the removal from the water of a vessel containing IFQ halibut, CDQ halibut, IFQ sablefish, or products thereof.

IFQ permit holder means the person identified on an IFQ permit, at the time a landing is made (see § 679.4(d)(1)).

* * * * *

Registered buyer means the person identified on a Registered Buyer permit (see § 679.4(d)(3)).

* * * * *

Transfer means:

(1) Groundfish fisheries of the GOA and BSAI. Any loading, offloading, shipment or receipt of any IFQ sablefish or other groundfish product by a mothership, catcher/processor, shoreside processor, or stationary floating processor, including quantities transferred inside or outside the EEZ, within any state's territorial waters, within the internal waters of any state, at any shoreside processor, stationary floating processor, or at any offsite meal reduction plant.

(2) IFQ halibut and CDQ halibut fisheries. Any loading, offloading, or shipment of any IFQ halibut or CDQ halibut product including quantities transferred inside or outside the EEZ, within any state's territorial waters, within the internal waters of any state, at any shoreside processor, stationary floating processor, or at any offsite meal reduction plant.

* * * * *

3. In § 679.4, paragraphs (a)(1)(i), (a)(1)(ii), (d), and (e) are revised to read as follows:

§ 679.4 Permits.

(a) * * *

(1) * * *

If program permit or card type is: | Permit is effective from issue date through the end of: | For more information, see * * *
(i) IFQ:
(A) Registered Buyer | Until next renewal cycle | Paragraph (d)(3)(ii) of this section.
(B) Halibut & sablefish permits | Specified fishing year | Paragraph (d)(3)(i)(B) of this section.
(C) Halibut & sablefish cards | Specified fishing year | Paragraph (d)(3)(i)(C) of this section.
(ii) CDQ Halibut
(A) Halibut permit | Specified fishing year | Paragraph (e) of this section.
(B) Halibut card | Specified fishing year | Paragraph (e) of this section.
* * * * * * *

* * * * *

(d) IFQ permits, IFQ cards, and Registered Buyer permits. The permits and cards described in this section are required in addition to the permit and licensing requirements prescribed in the annual management measures published in the Federal Register pursuant to § 300.62 of chapter III of this title and in the permit requirements of this section.

(1) IFQ permit. (i) An IFQ permit authorizes the person identified on the permit to harvest IFQ halibut or IFQ sablefish from a specified IFQ regulatory area at any time during an open fishing season during the fishing year for which the IFQ permit is issued until the amount harvested is equal to the amount specified under the permit, or until the permit is revoked, suspended, or modified under 15 CFR part 904.

(ii) A legible copy of any IFQ permit that specifies the IFQ regulatory area and vessel length overall from which IFQ halibut or IFQ sablefish may be harvested by the IFQ permit holder must be carried on board the vessel used by the permitted person to harvest IFQ halibut or IFQ sablefish at all times that such fish are retained on board.

(2) IFQ card. (i) An IFQ card authorizes the individual identified on the card to land IFQ halibut or IFQ sablefish for debit against the specified IFQ permit until the card expires, or is revoked, suspended, or modified under 15 CFR part 904, or cancelled on request of the IFQ permit holder.

(ii) An original IFQ card issued by the Regional Administrator must be on board the vessel that harvests IFQ halibut or IFQ sablefish at all times that such fish are retained on board. Except as specified in § 679.42(d), an individual that is issued an IFQ card must remain aboard the vessel used to harvest IFQ halibut or IFQ sablefish with that card during the IFQ fishing trip and at the landing site during all IFQ landings.

(iii) Each IFQ card issued by the Regional Administrator will display an IFQ permit number and the name of the individual authorized by the IFQ permit holder to land IFQ halibut or IFQ sablefish for debit against the permit holder's IFQ. In addition, IFQ cards issued to hired masters representing permit holders in accordance with § 679.42(i) and (j) will also display the ADF&G vessel identification number of the authorized vessel.

(3) Registered Buyer permit. (i) A Registered Buyer permit authorizes the person identified on the permit to receive and make an IFQ landing by an IFQ permit or cardholder or to receive and make a CDQ halibut landing by a CDQ permit or cardholder at any time during the fishing year for which it is issued until the Registered Buyer permit expires, or is revoked, suspended, or modified under 15 CFR part 904.

(ii) A Registered Buyer permit is required of:

(A) Any person who receives IFQ halibut, CDQ halibut or IFQ sablefish from the person(s) who harvested the fish;

(B) Any person who harvests IFQ halibut, CDQ halibut or IFQ sablefish and transfers such fish in a dockside sale, outside of an IFQ regulatory area, or outside the State of Alaska.

(C) A vessel operator who submits a Departure Report (see § 679.5(l)(4)).

(iii) A Registered Buyer permit is issued on a 3-year cycle by the Regional Administrator to persons that have a Registered Buyer application approved by the Regional Administrator.

(iv) A Registered Buyer permit is in effect from the first day of the year for which it is issued or from the date of issuance, whichever is later, through the end of the current NMFS 3-year cycle, unless it is revoked, suspended, or modified under § 600.735 or § 600.740 of this chapter.

(4) Issuance. The Regional Administrator will renew IFQ permits and cards annually or at other times as needed to accommodate transfers, revocations, appeals resolution, and other changes in QS or IFQ holdings, and designation of masters under § 679.42.

(5) Transfer. The quota shares and IFQ issued under this section are not transferable, except as provided under § 679.41. IFQ cards and Registered Buyer permits issued under this paragraph (d) are not transferable.

(6) Inspection—(i) IFQ permit and card. The IFQ cardholder must present a copy of the IFQ permit and the original IFQ card for inspection on request of any authorized officer or Registered Buyer receiving IFQ species.

(ii) Registered Buyer permit. A legible copy of the Registered Buyer permit must be present at the location of an IFQ landing or CDQ halibut landing and must be made available by an individual representing the Registered Buyer for inspection on request of any authorized officer.

(7) Validity. An IFQ permit issued under this part is valid only if the IFQ permit holder has paid all IFQ fees that are due as a result of final agency action as specified in §§ 679.45 and 679.5(l)(7)(ii).

(e) CDQ Halibut permits and CDQ cards—(1) Requirements. (i) The CDQ group, the operator of the vessel, the manager of a shoreside processor or stationary floating processor, and the Registered Buyer must comply with the requirements of this paragraph (e) and of paragraph § 679.32(f) for the catch of CDQ halibut.

(ii) The CDQ group, vessel owner or operator, and Registered Buyer are subject to all of the IFQ prohibitions at § 679.7(f).

(2) Halibut CDQ permit. The CDQ group must obtain a halibut CDQ permit issued by the Regional Administrator. The vessel operator must have a copy of the halibut CDQ permit on any fishing vessel operated by, or for, a CDQ group that will have halibut CDQ onboard and must make the permit available for inspection by an authorized officer. The halibut CDQ permit is non-transferable and is issued annually until revoked, suspended, or modified.

(3) Halibut CDQ card. An individual must have onboard the vessel a valid halibut CDQ card issued by the Regional Administrator before landing any CDQ halibut. Each halibut CDQ card will identify a CDQ permit number and the individual authorized by the CDQ group to land halibut for debit against the CDQ group's halibut CDQ.

(4) Alteration. No person may alter, erase, mutilate, or forge a halibut CDQ permit, landing card, Registered Buyer permit, or any valid and current permit or document issued under this part. Any such permit, card, or document that has been intentionally altered, erased, mutilated, or forged is invalid.

(5) Landings. A person may land CDQ halibut only if he or she has a valid halibut CDQ card. The person(s) holding the halibut CDQ card and the Registered Buyer must comply with the requirements of § 679.5(g) and (l)(1) through (6).

* * * * *

4. In § 679.5, the section heading and paragraphs (a)(1)(i), (a)(1)(ii), (a)(15), (g), (k), and (l) are revised to read as follows:

§ 679.5 Recordkeeping and reporting (R&R).

(a) General requirements. (1) Applicability—(i) Who must comply with R&R requirements? Participants in the groundfish fisheries, the IFQ fisheries, and the CDQ fisheries must comply with the appropriate R&R requirements of paragraphs (1)(i)(A) through (C) of this section. Sablefish are managed under both the IFQ Program and the Groundfish Program. As such, sablefish must be recorded and reported as groundfish and also as IFQ sablefish.

(A) Groundfish. Except as provided in paragraph (a)(1)(iii) of this section, the owner, operator, or manager of the following participants must comply with the appropriate groundfish R&R requirements provided at paragraphs (a) through (k), (m), (o), and (p) of this section; § 679.28(b), (f), and (g):

(1) Any catcher vessel, mothership, catcher/processor, or tender vessel, 5 net tons or larger, that is required to have a Federal fisheries permit under § 679.4.

(2) Any shoreside processor, stationary floating processor, mothership, or buying station that receives groundfish from vessels issued a Federal fisheries permit under § 679.4.

(3) Any buying station that receives or delivers groundfish in association with a mothership issued a Federal fisheries permit under § 679.4(b) or with a shoreside processor or stationary floating processor issued a Federal processor permit under § 679.4(f).

(4) Any shoreside processor or stationary floating processor that is required to have a Federal processor permit under § 679.4.

(5) For purposes of this section, “operator or manager” means “the operator of a catcher/processor or mothership, the manager of a shoreside processor or stationary floating processor, or the operator or manager of a buying station.”

(B) IFQ halibut and sablefish. The IFQ permit holder, IFQ cardholder, or Registered Buyer must comply with the R&R requirements provided at paragraphs (g), (k), and (l) of this section.

(C) CDQ halibut. The CDQ permit holder, CDQ cardholder, or Registered Buyer must comply with the R&R requirements provided at paragraphs (g), (k), (l)(1) through (6), (n)(1), and (n)(2) of this section.

(ii) What fish need to be recorded and reported? (A) Groundfish and prohibited species received. A shoreside processor, stationary floating processor, mothership, or buying station subject to R&R requirements must record and report all groundfish and prohibited species received, including fish received from vessels not required to have a federal fisheries permit; and fish received under contract for handling or processing for another processor.

(B) Groundfish and prohibited species reported by catcher vessels and buying stations. A shoreside processor, stationary floating processor, or mothership subject to R&R requirements must record and report discard or disposition information for all groundfish and prohibited species reported to it by catcher vessels or buying stations.

(C) Groundfish and prohibited species transferred. A shoreside processor, stationary floating processor, or mothership subject to R&R requirements must record and report all groundfish and prohibited species transferred out of the facility or off the vessel.

* * * * *

(15) Transfer comparison. The operator, manager, or Registered Buyer must refer to the following table for submittal, issuance, and possession requirements for each type of transfer activity of non-IFQ groundfish, IFQ halibut, IFQ sablefish, and CDQ halibut.

| Submittal: VAR | Submittal: PTR | Submittal: Trans-shipment authorization | Submittal: Departure report | Issue: Dockside sale receipt | Ppssess: Landing report receipt
(i) If a catcher vessel, mothership or catcher/processor leaving or entering Alaska with non-IFQ groundfish and no IFQ product or CDQ halibut product onboard (see § 679.5(k))) | X |  |  |  |  |
(ii) If a vessel leaving Alaska with IFQ sablefish, IFQ halibut, or CDQ halibut but no other non-IFQ groundfish onboard (see § 679.5(l)(4)) |  |  |  | X |  |
(iii) If a vessel leaving Alaska with IFQ sablefish, IFQ halibut, or CDQ halibut and other non-IFQ groundfish onboard (see §§ 679.5(k) and 679.5(l)(4)) | X |  |  | X |  |
(iv) Transfer of non-IFQ groundfish (see § 679.5(g)) |  | X |  |  |  |
(v) Transfer of IFQ species or CDQ halibut from a Registered Buyer (see § 679.5(g)) |  | X |  |  |  |
(vi) Transfer of IFQ species from IFQ Cardholder or CDQ halibut from CDQ halibut Cardholder with a Registered Buyer permit in a dockside sale (see § 679.5(l)(5)) |  |  |  |  | XXX |
(vii) Transfer of IFQ species or CDQ halibut from landing site to Registered Buyer's processing facility (see § 679.5(g)(1)(vi)) |  |  |  |  |  | XX
(viii) Transshipment of IFQ processed product or CDQ halibut processed product between vessels (see § 679.5(l)(3)) |  |  | XXXX |  |  |
“X” indicates under what circumstances each report is submitted;
“XX” indicates that the document must accompany the transfer of IFQ species from landing site to processor;
“XXX” indicates receipt must be issued to each receiver in a dockside sale;
“XXXX” indicates authorization must be obtained 24 hours in advance.

* * * * *

(g) Product Transfer Report (PTR)—(1) General requirements. Except as provided in paragraphs (g)(1)(i) through (vi) of this section, the operator of a mothership or catcher/processor or the manager of a shoreside processor or stationary floating processor must complete and submit a separate PTR for each transfer (shipment or receipt) of groundfish and donated prohibited species caught in groundfish fisheries. In addition, a Registered Buyer must submit a separate PTR for each transfer (shipment only) of halibut or sablefish for which the Registered Buyer submitted an IFQ landing report or was required to submit an IFQ landing report. A PTR is not required to accompany a shipment or transfer.

(i) Exemption: Bait sales (non-IFQ groundfish only). The operator or manager may aggregate individual sales or transfers of non-IFQ groundfish to vessels for bait purposes during a day onto one PTR when recording the amount of such bait product transferred from a vessel or facility that day.

(ii) Exemption: Retail sales. For retail sales destined for human consumption and weighing less than 10 lb or 4.5 kilograms, the operator, manager, or Registered Buyer may aggregate and record on one PTR, the amount of such retail product transferred during one calendar day.

(iii) Exemption: Wholesale sales (non-IFQ groundfish only). The operator or manager may aggregate and record on one PTR, wholesale sales of non-IFQ groundfish by species when recording the amount of such wholesale species leaving a vessel or facility in one calendar day, if invoices detailing destinations for all of the product are available for inspection by an authorized officer.

(iv) Exemption: Registered Buyers: Registered Buyers are not required to submit a PTR for “receipt” of IFQ halibut, CDQ halibut, or IFQ sablefish.

(v) Exemption: Dockside sales. (A) A person holding a valid IFQ permit, IFQ card, and Registered Buyer permit may conduct a dockside sale of IFQ halibut or IFQ sablefish with a person who has not been issued a Registered Buyer permit after all IFQ fish have been landed and reported in accordance with § 679.5(l).

(B) A person holding a valid halibut CDQ permit, halibut CDQ card, and Registered Buyer permit may conduct a dockside sale of CDQ halibut with a person who has not been issued a Registered Buyer permit after all CDQ halibut have been landed and reported in accordance with § 679.5(l).

(C) A Registered Buyer conducting dockside sales must issue a receipt to each individual receiving IFQ halibut, CDQ halibut, or IFQ sablefish in lieu of a PTR. This receipt must include the date of sale or transfer, the Registered Buyer permit number, and the weight by product of the IFQ halibut, CDQ halibut or IFQ sablefish transferred. The Registered Buyer must maintain a copy of each dockside sales receipt as described in § 679.5(l).

(vi) Exemption: transfer directly from the landing site to a processing facility (CDQ halibut, IFQ halibut, or IFQ sablefish only). A PTR is not required for transportation of unprocessed IFQ halibut, IFQ sablefish, and CDQ halibut directly from the landing site to a facility for processing, provided the following conditions are met:

(A) A copy of the IFQ Landing Report receipt (Internet or transaction terminal receipt) documenting the IFQ landing accompanies the offloaded IFQ halibut, IFQ sablefish, and CDQ halibut while in transit.

(B) A copy of the IFQ Landing Report receipt is available for inspection by an authorized officer.

(C) The Registered Buyer submitting the IFQ Landing Report completes a PTR for each transfer from the processing facility of IFQ halibut, CDQ halibut and IFQ sablefish transported in this manner.

(2) Time limits and submittal. The operator of a mothership or catcher/processor, a Registered Buyer, or manager of a shoreside processor or stationary floating processor must:

(i) Record on PTR. Record all product transfer information on a PTR within 2 hours of the completion of the transfer.

(ii) Submit original PTR. Submit by FAX or electronic file a copy of each PTR to OLE, Juneau, AK (907-586-7313), by 1200 hours, A.l.t., on the Tuesday following the end of the applicable weekly reporting period in which the transfer occurred.

(iii) Submit revised PTR. Ensure that, if any information on the original PTR changes prior to the first destination of the shipment, a revised PTR is submitted by FAX or electronic file to OLE, Juneau, AK (907-586-7313), by 1200 hours, A.l.t., on the Tuesday following the end of the applicable weekly reporting period in which the change occurred.

(3) General information. The operator, manager, or Registered Buyer must record on a PTR:

(i) Whether original or revised PTR;

(ii) Whether you are the shipper or receiver;

(4) Receiver information. If documenting receipt of non-IFQ groundfish, the operator or manager must check “Receiver''; enter your representative's name, telephone number, and FAX number; start and finish date and time of product transfer, position of product transfer (if applicable), port or location of transfer and:

Enter under “Receiver” | Enter under “Shipper”
Your processor's name, Federal fisheries or Federal processor permit | Other processor's name and Federal fisheries or Federal processor permit (if applicable).

(5) Shipper information. If documenting transfer of product away from your facility or transfer of product off of your vessel, the operator, manager, or Registered Buyer must enter the name of the individual representing the Registered Buyer, telephone number, and FAX number, check “Shipper” and:

If you are shipping . . . | Enter under “Shipper” . . .
(i) Non-IFQ groundfish | Your processor's name, Federal fisheries or Federal processor permit number.
(ii) IFQ halibut, CDQ halibut or IFQ sablefish | Your Registered Buyer name and permit number.
(iii) Both non-IFQ groundfish and IFQ halibut, CDQ halibut or IFQ sablefish on the same PTR | Your processor's name and Federal fisheries permit number or Federal processor permit number; or your Registered Buyer's name and permit number.

(iv) Using descriptions from the following table, enter receiver information, date and time of product transfer, location of product transfer (e.g., port, position coordinates, or city), mode of transportation, and intended route.

If you are the shipper and . . . | Then enter . . .: Receiver | Then enter . . .: Date & time of product transfer | Then enter . . .: Location of product transfer | Then enter . . .: Mode of transportation and intended route | Then enter . . .: Intended route
(A) Receiver is on land and transfer involves one van, truck, or vehicle | Receiver name and Federal fisheries or Federal processor permit number (if any) | Date and time when shipment leaves the plant | Port or city of product transfer | Name of the shipping company; destination city and state or foreign country.
(B) Receiver is on land and transfer involves multiple vans, trucks, or vehicles | Receiver name and Federal fisheries or Federal processor permit number (if any) | Date and time when loading of vans or trucks is completed each day | Port or city product transfer | Name of the shipping company; destination city and state or foreign country.
(C) Receiver is on land and transfer involves one airline flight | Receiver name and Federal fisheries or Federal processor permit number (if any) | Date and time when shipment leaves the plant | Port or city of product transfer | Name of the airline company; destination airport city and state.
(D) Receiver is on land and transfer involves multiple airline flights | Receiver name and Federal fisheries or Federal processor permit number (if any) | Date and time of shipment when the last airline flight of the day leaves | Port or city of product transfer | Name of airline company(s); destination airport(s) city and state.
(E) Receiver is a vessel and transfer takes occurs at sea | Vessel name and call sign | Start and finish dates and times of transfer | Transfer position coordinates in latitude and longitude, in degrees and minutes | The first destination of the vessel.
(F) Receiver is a vessel and transfer takes place in port | Vessel name and call sign | Start and finish dates and times of transfer | Port or position of product transfer | The first destination of the vessel.
(G) Receiver is an agent (buyer, distributor, or shipping agent) and transfer is in a containerized van(s) | Agent name and location (city, state) | Transfer start and finish dates and times | Port, city, or position of product transfer | Name (if available) of the vessel transporting the van; destination port.
(H) You are aggregating individual retail sales for human consumption in quantities less than 10 lb (0.0045 mt) per sale during a day onto one PTR | “RETAIL SALES” | Time of the first sale of the day; time of the last sale of the day | Port or city of product transfer | n/a
(I) You are aggregating individual bait sales during a day onto one PTR (non-IFQ groundfish only) | “BAIT SALES” | Time of the first sale of the day; time of the last sale of the day | Port or city of product transfer | n/a
(J) Non-IFQ Groundfish only. You are aggreating wholesale non-IFQ groundfish product sales by species during a single day onto one PTR and maintaining invoices detailing destinations for all of the product for inspection by an authorized officer | “WHOLESALE SALES” | Time of the first sale of the day; time of the last sale of the day | Port or city of product transfer | n/a

(6) Products shipped or received. The operator, manager, or Registered Buyer must record the following information for each product transferred:

(i) Species code and product code. The species code and product code (Tables 1 and 2 to this part).

(ii) Species weight. Use only if recording two or more species with two or more product types contained within the same production unit. Enter the actual scale weight of each product of each species to the nearest kilogram or pound (indicate which). If not applicable, enter “n/a” in the species weight column. If using more than one line to record species in one carton, use a brace “}” to tie the carton information together.

(iii) Number of units. Total number of production units (blocks, trays, pans, individual fish, boxes, or cartons; if iced, enter number of totes or containers).

(iv) Unit weight. Unit weight (average weight of single production unit as listed in “No. of Units” less packing materials) for each species and product code in kilograms or pounds (indicate which).

(v) Total weight. Total weight for each species and product code of shipment less packing materials in kilograms or pounds (indicate which).

(7) Total or partial offload. (i) If a mothership or catcher/processor, the operator must indicate whether the transfer is a total or partial offload.

(ii) If a partial offload, for the products remaining on board after the transfer, the operator must enter: species code, product code, and total product weight to the nearest kilogram or pound (indicate which) for each product.

* * * * *

(k) U.S. Vessel Activity Report (VAR)—(1) Who needs to submit a VAR?—(i) Fish or fish product onboard. Except as noted in paragraph (k)(1)(iv) of this section, the operator of a catcher vessel greater than 60 ft (18.3 m) LOA, a catcher/processor, or a mothership required to hold a Federal fisheries permit issued under this part and carrying fish or fish product onboard must complete and submit a VAR by FAX or electronic file to OLE, Juneau, AK (907-586-7313) before the vessel crosses the seaward boundary of the EEZ off Alaska or crosses the U.S.-Canadian international boundary between Alaska and British Columbia.

(ii) Combination of non-IFQ groundfish with IFQ halibut, CDQ halibut, or IFQ sablefish. If a vessel is carrying non-IFQ groundfish and IFQ halibut, CDQ halibut or IFQ sablefish, the operator must submit a VAR in addition to an IFQ Departure Report per paragraph (l)(4) of this section.

(iii) Revised VAR. If fish or fish products are landed at a port other than the one specified on the VAR, the vessel operator must submit a revised VAR showing the actual port of landing before any fish are offloaded.

(iv) Exemption: IFQ Departure Report. If a vessel is carrying only IFQ halibut, CDQ halibut, or IFQ sablefish onboard and the operator has submitted an IFQ Departure Report per paragraph (l)(4) of this section, a VAR is not required.

(2) Information required. Whether original or revised VAR; name and Federal fisheries permit number of vessel; type of vessel (whether catcher vessel, catcher/processor, or mothership); and representative information (see paragraph (b)(2) of this section).

(i) Return report. “Return,” for purposes of this paragraph, means returning to Alaska. If the vessel is crossing into the seaward boundary of the EEZ off Alaska or crossing the U.S.-Canadian international boundary between Alaska and British Columbia into U.S. waters, indicate a “return” report and enter:

(A) Intended Alaska port of landing (see Table 14 to this part);

(B) Estimated date and time (hour and minute, Greenwich mean time) the vessel will cross;

(C) The estimated position coordinates the vessel will cross.

(ii) Depart report. “Depart” means leaving Alaska. If the vessel is crossing out of the seaward boundary of the EEZ off Alaska or crossing the U.S.-Canadian international boundary between Alaska and British Columbia into Canadian waters, indicate a “depart” report and enter:

(A) The intended U.S. port of landing or country other than the United States;

(B) Estimated date and time (hour and minute, Greenwich mean time) the vessel will cross;

(C) The estimated position coordinates in latitude and longitude the vessel will cross.

(iii) The Russian Zone. Indicate whether your vessel is returning from fishing in the Russian Zone or is departing to fish in the Russian Zone.

(iv) Fish or fish products. For all fish or fish products (including non-groundfish) on board the vessel, enter: Harvest zone code; species codes; product codes; and total fish product weight in lbs or to the nearest 0.001 mt.

(l) IFQ halibut, CDQ halibut or IFQ sablefish R&R. In addition to the R&R requirements in this section and as prescribed in the annual management measures published in the Federal Register pursuant to § 300.62 of this title, the following reports and authorizations are required, when applicable: IFQ Prior Notice of Landing, Product Transfer Report (see § 679.5(g)), IFQ Landing Report, IFQ Transshipment Authorization, and IFQ Departure Report.

(1) IFQ Prior Notice of Landing (PNOL)—(i) Time limits and submittal. (A) Except as provided in paragraph (l)(1)(iv) of this section, the operator of any vessel making an IFQ landing must notify OLE, Juneau, AK, no fewer than 3 hours before landing IFQ halibut, CDQ halibut, or IFQ sablefish, unless permission to commence an IFQ landing within 3 hours of notification is granted by a clearing officer.

(B) A PNOL must be made to the toll-free telephone number 800-304-4846 or to 907-586-7163 between the hours of 0600 hours, A.l.t., and 2400 hours, A.l.t.

(ii) Revision to PNOL. The operator of any vessel wishing to make an IFQ landing before the date and time (A.l.t.) reported in the PNOL or later than 2 hours after the date and time (A.l.t.) reported in the PNOL must submit a new PNOL as described in paragraphs (l)(1)(i) and (iii) of this section.

(iii) Information required. A PNOL must include the following:

(A) Vessel name and ADF&G vessel registration number;

(B) Port of landing and port code from Table 14 to this part;

(C) Exact location of landing within the port (i.e., dock name, harbor name, facility name, or geographical coordinates);

(D) The date and time (A.l.t.) that the landing will take place;

(E) Species and estimated weight (in pounds) of the IFQ halibut, CDQ halibut or IFQ sablefish that will be landed;

(F) IFQ regulatory area(s) in which the IFQ halibut, CDQ halibut, or IFQ sablefish were harvested; and

(G) IFQ permit number(s) that will be used to land the IFQ halibut, CDQ halibut, or IFQ sablefish.

(iv) Exemption. An IFQ landing of halibut of 500 lb or less of IFQ weight determined pursuant to § 679.42(c)(2) and concurrent with a legal landing of salmon or a legal landing of lingcod harvested using dinglebar gear is exempt from the PNOL required by this section.

(2) IFQ Landing report—(i) Requirements—(A) All IFQ halibut, CDQ halibut and IFQ sablefish catch debited. Except as provided in paragraph 679.40(g) of this section, all IFQ halibut, CDQ halibut, and IFQ sablefish catch must be weighed and debited from the IFQ permit holder's account or CDQ halibut permit holder's account under which the catch was harvested.

(B) Single offload site for halibut. The vessel operator who lands IFQ halibut or CDQ halibut must continuously and completely offload at a single offload site all halibut on board the vessel.

(C) Single offload site for sablefish. The vessel operator who lands IFQ sablefish must continuously and completely offload at a single offload site all sablefish on board the vessel.

(D) Remain at landing site. Once the landing has commenced, the IFQ cardholder or CDQ cardholder and the harvesting vessel may not leave the landing site until the IFQ halibut, IFQ sablefish or CDQ halibut account is properly debited (as defined in paragraph (l)(2)(iv)(D) of this section).

(E) No movement of IFQ halibut, CDQ halibut, or IFQ sablefish. The offloaded IFQ halibut, CDQ halibut, or IFQ sablefish may not be moved from the landing site until the IFQ Landing Report is received by OLE, Juneau, AK, and the IFQ cardholder's or CDQ cardholder's account is properly debited (as defined in paragraph (l)(2)(iv)(D) of this section).

(ii) Time limits. (A) A landing of IFQ halibut, CDQ halibut, or IFQ sablefish may commence only between 0600 hours, A.l.t., and 1800 hours, A.l.t., unless permission to land at a different time (waiver) is granted in advance by a clearing officer.

(B) A Registered Buyer must submit a completed IFQ Landing Report within 6 hours after all IFQ halibut, CDQ halibut, or IFQ sablefish are landed and prior to shipment or transfer of said fish from the landing site.

(iii) Information required. The Registered Buyer must enter accurate information contained in a complete IFQ Landing Report as follows:

(A) Date and time (A.l.t.) of the IFQ landing;

(B) Location of the IFQ landing (port code or if at sea, lat. and long.);

(C) Name and permit number of the IFQ cardholder or CDQ cardholder;

(D) Name and permit number of Registered Buyer receiving the IFQ halibut, IFQ sablefish, or CDQ halibut;

(E) The harvesting vessel's name and ADF&G vessel registration number;

(F) Gear code used to harvest IFQ species;

(G) Alaska State fish ticket number(s) for the landing;

(H) ADF&G statistical area of harvest reported by the IFQ cardholder;

(I) If ADF&G statistical area is bisected by a line dividing two IFQ regulatory areas, the IFQ regulatory area of harvest reported by the IFQ cardholder;

(J) For each ADF&G statistical area of harvest:

(1) Except as provided in paragraph (l)(2)(iii)(J)(2) of this section, the species codes, product codes, and initial accurate scale weight(s) (in pounds or to the nearest thousandth of a metric ton) made at the time of offloading for IFQ halibut, IFQ sablefish, or CDQ halibut sold and retained.

(2) If the vessel operator is the Registered Buyer reporting the IFQ landing, the accurate weight of IFQ sablefish processed product obtained before the offload may be substituted for the initial accurate scale weight at time of offload.

(K) Initial accurate scale weight(s) with or without ice and slime, as appropriate, of fish as offloaded from the vessel. Fish which have been washed prior to weighing or which have been offloaded from refrigerated salt water are not eligible for a 2-percent deduction for ice and slime and must be reported as fish weights without ice and slime.

(L) If IFQ halibut is incidental catch concurrent with legal landing of salmon or concurrent with legal landing of lingcod harvested using dinglebar gear.

(M) After the Registered Buyer enters the landing data in the transaction terminal or the Internet submission form(s) and receipts are printed, the Registered Buyer, or his/her representative, and the IFQ cardholder or CDQ cardholder must sign the receipts to acknowledge the accuracy of the IFQ Landing Report.

(iv) Submittals. Except as indicated in paragraph (l)(2)(iv)(C) of this section, IFQ landing reports must be submitted electronically to OLE, Juneau, AK, either by using an electronic transaction terminal or by using the Internet as indicated below:

(A) Transaction terminal. Landing Reports submitted using magnetic strip cards issued by NMFS, Alaska Region, and transaction terminals with printers driven by custom-designed software as provided and/or specified by NMFS, Alaska Region.

(1) The Registered Buyer must locate or procure a transaction terminal and report as required.

(2) The IFQ cardholder or CDQ cardholder must initiate a Landing Report by using his or her own magnetic card and personal identification number (PIN).

(B) Internet. Landing Reports submitted using Internet submission methods as provided and/or specified by NMFS, Alaska Region.

(1) The Registered Buyer must obtain at his or her own expense, hardware, software and Internet connectivity to support Internet submissions and report as required.

(2) The IFQ cardholder or CDQ cardholder must initiate a Landing Report by logging into the IFQ landing report system using his or her own password and must provide identification information requested by the system.

(3) The Registered Buyer must enter additional log-in information, including his or her password, and provide landing information requested by the system.

(C) Manual landing report. Waivers from the transaction terminal or Internet reporting requirement can only be granted in writing on a case-by-case basis by a local clearing officer. If a waiver is granted, manual landing instructions must be obtained from OLE, Juneau, AK, at 800-304-4846 (Select Option 1). Registered Buyers must complete and submit manual Landing Reports by FAX to OLE, Juneau, AK, at 907-586-7313. When a waiver is issued, the following additional information is required: whether the manual Landing Report is an original or revised; and name, telephone number, and FAX number of individual submitting the manual Landing Report.

(D) Properly debited landing. A properly concluded transaction terminal receipt, or printed Internet submission receipt, or a manual landing report receipt which is sent by FAX from OLE to the Registered Buyer, and which is then signed by both the Registered Buyer and cardholder constitutes confirmation that OLE received the landing report and that the cardholder's account is properly debited. A copy of each receipt must be maintained by the Registered Buyer as described in § 679.5(l).

(3) Transshipment authorization. (i) No person may transship processed IFQ halibut, CDQ halibut, or IFQ sablefish between vessels without authorization by a local clearing officer. Authorization from a local clearing officer must be obtained for each instance of transshipment at least 24 hours before the transshipment is intended to commence.

(ii) Information required. To obtain a Transshipment Authorization, the vessel operator must provide the following information to the clearing officer:

(A) Date and time (A.l.t.) of transshipment;

(B) Location of transshipment;

(C) Name and ADF&G vessel registration number of vessel offloading transshipment;

(D) Name of vessel receiving the transshipment;

(E) Product destination;

(F) Species and product type codes;

(G) Total product weight;

(H) Time (A.l.t.) and date of the request;

(I) Name, telephone number, FAX number (if any) for the person making the request.

(4) IFQ Departure Report—(i) General Requirements—(A) Time limit and submittal. A vessel operator who intends to make an IFQ landing at any location other than in an IFQ regulatory area or in the State of Alaska must submit an IFQ Departure Report, by telephone, to OLE, Juneau, AK, at 800-304-4846 or 907-586-7163 between the hours of 0600 hours, A.l.t., and 2400 hours, A.l.t.

(B) Completion of fishing. A vessel operator must submit an IFQ Departure Report after completion of all fishing and prior to departing the waters of the EEZ adjacent to the jurisdictional waters of the State of Alaska, the territorial sea of the State of Alaska, or the internal waters of the State of Alaska when IFQ halibut, CDQ halibut, or IFQ sablefish are on board.

(C) Registered Buyer permit. A vessel operator submitting an IFQ Departure Report must have a Registered Buyer permit.

(D) First landing of any species. A vessel operator submitting an IFQ Departure Report must submit IFQ Landing Reports for all IFQ halibut, CDQ halibut, and IFQ sablefish on board at the same time and place as the first landing of any IFQ halibut, CDQ halibut, or IFQ sablefish.

(E) Permits on board.—(1) A vessel operator submitting an IFQ Departure Report to document IFQ halibut or IFQ sablefish must ensure that one or more IFQ cardholders are on board with enough remaining IFQ balance to harvest amounts of IFQ halibut or IFQ sablefish equal to or greater than all IFQ halibut and IFQ sablefish on board.

(2) A vessel operator submitting an IFQ Departure Report to document CDQ halibut must ensure that one or more CDQ cardholders are on board with enough remaining CDQ halibut balance to harvest amounts of CDQ halibut equal to or greater than all CDQ halibut on board.

(ii) Required information. When submitting an IFQ Departure Report, the vessel operator must provide the following information:

(A) Intended date, time (A.l.t.), and location of landing;

(B) Vessel name and ADF&G registration number;

(C) Vessel operator's name and Registered Buyer permit number;

(D) Halibut IFQ, Halibut CDQ, and sablefish IFQ Permit numbers of IFQ and CDQ cardholders on board;

(E) Halibut Regulatory Areas or Sablefish Regulatory Areas of harvest or both;

(F) Estimated total weight as appropriate of IFQ halibut or CDQ halibut on board (lb/kg/mt);

(G) Estimated total weight of IFQ sablefish on board (lb/kg/mt).

(5) Landing verification, inspection and record retention—(i) Verification and inspection. Each IFQ landing and all fish retained on board the vessel making an IFQ landing are subject to verification and inspection by authorized officers.

(ii) Record retention. The IFQ cardholder or CDQ cardholder must retain a legible copy of all Landing Report receipts, and the Registered Buyer must retain a copy of all reports and receipts required by this section. All retained records must be available for inspection by an authorized officer:

(A) Until the end of the fishing year during which the records were made and for as long thereafter as fish or fish products recorded are retained onboard the vessel or at the facility; and

(B) Upon request of an authorized officer for 3 years after the end of the fishing year during which the records were made.

(6) Sampling—(i) Each IFQ landing and all fish retained onboard a vessel making an IFQ landing are subject to sampling by NMFS-authorized observers.

(ii) Each IFQ halibut landing or CDQ halibut landing is subject to sampling for biological information by persons authorized by the IPHC.

* * * * *

5. In § 679.7, paragraphs (f)(6) and (f)(12) are revised to read as follows:

§ 679.7 Prohibitions.

* * * * *

(f) * * *

(6) Landing—(i) IFQ or CDQ card. Make an IFQ landing without an IFQ or CDQ card, as appropriate, in the name of the individual making the landing.

(ii) Hired master, IFQ. Make an IFQ landing without an IFQ card listing the name of the hired master and the name of the vessel making the landing.

(iii) Hired master, CDQ halibut. Make a CDQ halibut landing without a CDQ card listing the name of the hired master.

* * * * *

(12) Commence an IFQ landing without a Prior Notice of Landing (PNOL), before the date and time stated on the PNOL, or more than 2 hours after the date and time stated on the PNOL, except as provided in § 679.5(l)(1).

* * * * *

6. In § 679.32, paragraph (f)(1) is revised; paragraph (f)(2) is removed; and paragraphs (f)(3) through (5) are redesignated as paragraphs (f)(2) through (f)(4), respectively, to read as follows:

§ 679.32 Groundfish and halibut CDQ catch monitoring.

* * * * *

(f) Halibut CDQ—(1) Applicability. The CDQ group, the operator of the vessel, the manager of a shoreside processor or stationary floating processor, and the Registered Buyer must comply with the catch monitoring requirements of this paragraph (f) and with the R&R requirements of § 679.4(e) for the catch of CDQ halibut or while CDQ halibut fishing.

* * * * *

7. In § 679.42, paragraphs (a), (c)(1)(ii), (c)(1)(iv), and (c)(2)(i) are revised to read as follows:

§ 679.42 Limitations on use of QS and IFQ.

(a) IFQ regulatory area and vessel category. (1) The QS or IFQ specified for one IFQ regulatory area must not be used in a different IFQ regulatory area.

(2) Except as provided in § 679.41(i)(1) of this part, the IFQ assigned to one vessel category must not be used to harvest IFQ species on a vessel of a different vessel category.

(3) Notwithstanding § 679.40(a)(5)(ii), IFQ assigned to vessel Category B must not be used on any vessel less than or equal to 60 ft (18.3 m) LOA to harvest IFQ halibut in IFQ regulatory area 2C or IFQ sablefish in the IFQ regulatory area east of 140° W. long. unless such IFQ derives from blocked QS units that result in IFQ of less than 5,000 lb (2.268 mt), based on the 1996 TACs for fixed gear specified for the IFQ halibut fishery and the IFQ sablefish fishery in each of these two regulatory areas.

* * * * *

(c) * * *

(1) * * *

(ii) Be aboard the vessel at all times during the fishing trip and present during the landing.

* * * * *

(iv) Sign the IFQ Landing Report required by § 679.5(l)(2)(iii)(M) or § 679.5(l)(2)(iv)(D).

(2) * * *

(i) Except as provided in § 679.5(l)(2)(iii)(J), if offload of unprocessed IFQ halibut, CDQ halibut or IFQ sablefish from a vessel, the scale weight of the halibut or sablefish product actually measured at the time of offload, as required by § 679.5(l)(2)(iii) to be included in the IFQ Landing Report.

* * * * *

8. In § 679.43, paragraph (c) is revised to read as follows:

§ 679.43 Determinations and appeals.

* * * * *

(c) Submission of appeals. Appeals must be in writing and must be mailed to the: National Marine Fisheries Service, Office of Administrative Appeals (OAA), P. O. Box 21668, Juneau, AK 99802-1668, or delivered to National Marine Fisheries Service, Attention: Appeals (OAA), 709 W. 9th Street, Room 453, Juneau, AK 99801.

* * * * *

9. In part 679, Table 14a is revised to read as follows:

Table 14a to Part 679.—Port of Landing Codes ¹
Port name | NMFS code | ADF&G code
a. Alaska:
Adak | 186 | ADA
Akutan | 101 | AKU
Akutan Bay | 102 |
Alitak | 103 | ALI
Anchor Point | 104 |
Anchorage | 105 | ANC
Angoon | 106 | ANG
Aniak |  | ANI
Anvik |  | ANV
Atka | 107 | ATK
Auke Bay | 108 |
Baranof Warm Springs | 109 |
Beaver Inlet | 110 |
Bethel |  | BET
Captains Bay | 112 |
Chefornak | 189 |
Chignik | 113 | CHG
Chinitna Bay | 114 |
Cordova | 115 | COR
Craig | 116 | CRG
Dillingham | 117 | DIL
Douglas | 118 |
Dutch Harbor/Unalaska | 119 | DUT
Edna Bay | 121 |
Egegik | 122 | EGE
Ekuk |  | EKU
Elfin Cove | 123 | ELF
Emmonak |  | EMM
Excursion Inlet | 124 | XIP
False Pass | 125 | FSP
Fairbanks |  | FBK
Galena |  | GAL
Glacier Bay |  | GLB
Glennallen |  | GLN
Gustavus | 127 | GUS
Haines | 128 | HNS
Halibut Cove | 130 |
Hollis | 131 |
Homer | 132 | HOM
Hoonah | 133 | HNH
Hooper Bay | 188 |
Hydaburg |  | HYD
Hyder | 134 | HDR
Ikatan Bay | 135 |
Juneau | 136 | JNU
Kake | 137 | KAK
Kaltag |  | KAL
Kasilof | 138 | KAS
Kenai | 139 | KEN
Kenai River | 140 |
Ketchikan | 141 | KTN
King Cove | 142 | KCO
King Salmon | 143 | KNG
Kipnuk | 144 |
Klawock | 145 | KLA
Kodiak | 146 | KOD
Kotzebue |  | KOT
La Conner |  | LAC
Mekoryuk | 147 |
Metlakatla | 148 | MET
Moser Bay |  | MOS
Naknek | 149 | NAK
Nenana |  | NEN
Nikiski (or Nikishka) | 150 | NIK
Ninilchik | 151 | NIN
Nome | 152 | NOM
Nunivak Island |  | NUN
Old Harbor | 153 | OLD
Other Alaska ¹ | 499 | UNK
Pelican | 155 | PEL
Petersburg | 156 | PBG
Point Baker | 157 |
Port Alexander | 158 | PAL
Port Armstrong |  | PTA
Port Bailey | 159 | PTB
Port Graham | 160 | GRM
Port Lions |  | LIO
Port Moller |  | MOL
Port Protection | 161 |
Portage Bay (Petersburg) | 162 |
Quinhagak | 187 |
Resurrection Bay | 163 |
Sand Point | 164 | SPT
Savoonga | 165 |
Seldovia | 166 | SEL
Seward | 167 | SEW
Sitka | 168 | SIT
Skagway | 169 | SKG
Soldotna |  | SOL
St. George | 170 | STG
St. Lawrence | 171 |
St. Mary |  | STM
St. Paul | 172 | STP
Tee Harbor | 173 |
Tenakee Springs | 174 | TEN
Thorne Bay | 175 |
Togiak | 176 | TOG
Toksook Bay | 177 |
Tununak | 178 |
Ugadaga Bay | 179 |
Ugashik |  | UGA
Unalakleet |  | UNA
Valdez | 181 | VAL
Wasilla |  | WAS
West Anchor Cove | 182 |
Whittier | 183 | WHT
Wrangell | 184 | WRN
Yakutat | 185 | YAK
¹ To report a landing at a location not currently assigned a location code number: use the code for “Other” for the state or country at which the landing occurs and notify NMFS of the actual location so that the list may be updated. For example, to report a landing for Levelock, Alaska if there is currently no code assigned, use “499” “Other, AK”.

Table 14b to Part 679.—Port of Landing Codes
Port name | NMFS code | ADF&G code
CALIFORNIA
b. Non-Alaska (California, Oregon, Canada, Washington):
Eureka | 500 | EUR
Fort Bragg |  | 501
Other California ¹ | 599 |
CANADA
Port Edward | 800 |
Port Hardy | 801 |
Prince Rupert | 802 | PRU
Vancouver | 803 |
Other Canada ¹ | 899 |
OREGON
Astoria | 600 | AST
Lincoln City | 602 |
Newport | 603 | NPT
Olympia |  | OLY
Portland |  | POR
Warrenton | 604 |
Other Oregon ¹ | 699 |
WASHINGTON
Anacortes | 700 | ANA
Bellevue | 701 |
Bellingham | 702 |
Blaine |  | BLA
Edmonds | 703 |
Everett | 704 |
Fox Island | 706 |
Ilwaco | 707 |
La Conner | 708 | LAC
Mercer Island | 709 |
Nagai Island | 710 |
Port Angeles | 711 |
Port Orchard | 712 |
Port Townsend | 713 |
Rainier | 714 |
Seattle | 715 | SEA
Tacoma |  | TAC
Other Washington ¹ | 799 |
¹ To report a landing at a location not currently assigned a location code number: use the code for “Other” for the state or country at which the landing occurs and notify NMFS of the actual location so that the list may be updated. For example, to report a landing for Levelock, Alaska if there is currently no code assigned, use “499” “Other, AK”.

[FR Doc. 03-19132 Filed 7-28-03; 8:45 am]

BILLING CODE 3510-22-P